DEPARTMENT OF THE TREASURY

Office of Foreign Assets Control

31 CFR Parts 594 and 597

Publication of Global Terrorism Sanctions Regulations and Foreign Terrorist Organizations Sanctions Regulations Web General Licenses 22A, 23A, 24A, 25A, 26A, and 28A

AGENCY: Office of Foreign Assets Control, Treasury.

ACTION: Publication of web general licenses.

SUMMARY: The Department of the Treasury's Office of Foreign Assets Control (OFAC) is publishing six general licenses (GLs) issued pursuant to the Global Terrorism Sanctions Regulations and Foreign Terrorist Organizations Sanctions Regulations: GLs 22A, 23A, 24A, 25A, 26A, and 28A.

DATES: GLs 22A, 23A, 24A, 25A, 26A, and 28A were issued on March 5, 2025. See SUPPLEMENTARY INFORMATION for additional relevant dates.

FOR FURTHER INFORMATION CONTACT: OFAC: Assistant Director for Regulatory Affairs, 202-622-4855; or Assistant Director for Compliance, https://ofac.treasury.gov/contact-ofac.

SUPPLEMENTARY INFORMATION:

Electronic Availability

This document and additional information concerning OFAC are available on OFAC's website: https://ofac.treasury.gov.

Background

On March 5, 2025, OFAC issued GLs 22A, 23A, 24A, 25A, 26A, and 28A, which superseded GLs 22, 23, 24, 25, 26, and 28, respectively, to authorize certain transactions otherwise prohibited by the Global Terrorism Sanctions Regulations, 31 CFR part 594, and the Foreign Terrorist Organizations Sanctions Regulations, 31 CFR part 597. Each GL was made available on OFAC's website (https://ofac.treasury.gov) when it was issued. The text of these GLs is provided below.

OFFICE OF FOREIGN ASSETS CONTROL

Global Terrorism Sanctions Regulations

31 CFR Part 594

Foreign Terrorist Organizations Sanctions Regulations

31 CFR Part 597

GENERAL LICENSE NO. 22A

Transactions Related to the Provision of Agricultural Commodities, Medicine, Medical Devices, Replacement Parts and Components, or Software Updates Involving Ansarallah

(a) Except as provided in paragraph (c) of this general license, all transactions prohibited by the Global Terrorism Sanctions Regulations, 31 CFR part 594 (GTSR), or the Foreign Terrorist Organizations Sanctions Regulations, 31 CFR part 597 (FTOSR), involving Ansarallah, or any entity in which Ansarallah owns, directly or indirectly, a 50 percent or greater interest, that are ordinarily incident and necessary to the provision (including sale) of agricultural commodities, medicine, medical devices, replacement parts and components for medical devices, or software updates for medical devices to Yemen, or to persons in third countries purchasing specifically for provision to Yemen, are authorized.

(b) For the purposes of this general license, agricultural commodities, medicine, and medical devices are defined as follows:

(1) Agricultural commodities. Agricultural commodities are products that:

(i) Fall within the term “agricultural commodity” as defined in section 102 of the Agricultural Trade Act of 1978 (7 U.S.C. 5602); and

(ii) Are intended for ultimate use in Yemen as:

(A) Food for humans (including raw, processed, and packaged foods; live animals; vitamins and minerals; food additives or supplements; and bottled drinking water) or animals (including animal feeds);

(B) Seeds for food crops;

(C) Fertilizers or organic fertilizers; or

(D) Reproductive materials (such as live animals, fertilized eggs, embryos, and semen) for the production of food animals.

(2) Medicine. Medicine is an item that falls within the definition of the term “drug” in section 201 of the Federal Food, Drug, and Cosmetic Act (21 U.S.C. 321).

(3) Medical devices. A medical device is an item that falls within the definition of “device” in section 201 of the Federal Food, Drug, and Cosmetic Act (21 U.S.C. 321).

(c) This general license does not authorize:

(1) Financial transfers to any blocked person described in paragraph (a) of this general license, other than for the purpose of effecting the payment of taxes, fees, or import duties, or the purchase or receipt of permits, licenses, or public utility services; or

(2) Any transactions otherwise prohibited by the GTSR or the FTOSR, including transactions involving any person blocked pursuant to the GTSR or the FTOSR other than the blocked persons described in paragraph (a) of this general license, unless separately authorized.

Note to paragraph (c)(2). See § 594.521 of the GTSR and 31 CFR 597.517 of the FTOSR for general licenses authorizing transactions related to the provision of agricultural commodities, medicine, medical devices, replacement parts and components, or software updates for personal, non-commercial use.

Note to General License No. 22A. Nothing in this general license relieves any person from compliance with any other federal laws or requirements of other federal agencies.

(d) Effective March 5, 2025, General License No. 22, dated January 17, 2024, is replaced and superseded in its entirety by this General License No. 22A.

Lisa M. Palluconi,

Acting Director, Office of Foreign Assets Control.

Dated: March 5, 2025.

OFFICE OF FOREIGN ASSETS CONTROL

Global Terrorism Sanctions Regulations

31 CFR Part 594

Foreign Terrorist Organizations Sanctions Regulations

31 CFR Part 597

GENERAL LICENSE NO. 23A

Authorizing Transactions Related to Telecommunications, Mail, and Certain Internet-Based Communications Involving Ansarallah

(a)(1) Except as provided in paragraph (d) of this general license, all transactions prohibited by the Global Terrorism Sanctions Regulations, 31 CFR part 594 (GTSR), or the Foreign Terrorist Organizations Sanctions Regulations, 31 CFR part 597 (FTOSR), involving Ansarallah, or any entity in which Ansarallah owns, directly or indirectly, a 50 percent or greater interest, with respect to the receipt or transmission of telecommunications within Yemen are authorized.

(2) This paragraph does not authorize:

(i) The provision, sale, or lease of telecommunications equipment or technology; or

(ii) The provision, sale, or lease of capacity on telecommunications transmissions facilities (such as satellite or terrestrial network activity).

(b) Except as provided in paragraph (d) of this general license, the exportation, reexportation, or provision, directly or indirectly, from the United States or by U.S. persons, wherever located, to Yemen, of services, software, hardware, or technology incident to the exchange of communications over the internet, such as instant messaging, chat and email, social networking, sharing of photos and movies, web browsing, blogging, social media platforms, collaboration platforms, video conferencing, voice over internet protocol (VOIP), e-gaming, e-learning platforms, automated translation, web maps, and user authentication services, as well as cloud-based services in support of the foregoing, and domain name registration services, involving Ansarallah, or any entity in which Ansarallah owns, directly or indirectly, a 50 percent or greater interest, that is prohibited by the GTSR or FTOSR, is authorized, provided the exportation, reexportation, or provision is not to a person whose property and interests in property are blocked pursuant to the GTSR or FTOSR.

(c) Except as provided in paragraph (d) of this general license, all transactions of common carriers incident to the receipt or transmission of mail and packages between the United States and Yemen, or within Yemen, involving Ansarallah, or any entity in which Ansarallah owns, directly or indirectly, a 50 percent or greater interest, that are prohibited by the GTSR or the FTOSR are authorized, provided that the importation or exportation of such mail and packages is not to or from any person blocked pursuant to the GTSR or the FTOSR.

(d) This general license does not authorize:

(1) Financial transfers to any blocked person described in paragraph (a) of this general license, other than for the purpose of effecting the payment of taxes, fees, or import duties, or the purchase or receipt of permits, licenses, or public utility services; or

(2) Any transactions otherwise prohibited by the GTSR or the FTOSR, including transactions involving any person blocked pursuant to the GTSR or the FTOSR other than the blocked persons described in paragraph (a) of this general license, unless separately authorized.

(e) Effective March 5, 2025, General License No. 23, dated January 17, 2024, is replaced and superseded in its entirety by this General License No. 23A.

Lisa M. Palluconi,

Acting Director, Office of Foreign Assets Control.

Dated: March 5, 2025.

OFFICE OF FOREIGN ASSETS CONTROL

Global Terrorism Sanctions Regulations

31 CFR Part 594

Foreign Terrorist Organizations Sanctions Regulations

31 CFR Part 597

GENERAL LICENSE NO. 24A

Authorizing Noncommercial, Personal Remittances Involving Ansarallah

(a) Except as provided in paragraph (c) of this general license, all transactions prohibited by the Global Terrorism Sanctions Regulations, 31 CFR part 594 (GTSR), or the Foreign Terrorist Organizations Sanctions Regulations, 31 CFR part 597 (FTOSR), involving Ansarallah, or any entity in which Ansarallah owns, directly or indirectly, a 50 percent or greater interest, that are ordinarily incident and necessary to the transfer of noncommercial, personal remittances to or from an individual in Yemen, are authorized, provided the individual is not a person whose property or interests in property are blocked pursuant to the GTSR or the FTOSR.

Note to paragraph (a). Noncommercial, personal remittances do not include charitable donations of funds to or for the benefit of an entity or funds transfers for use in supporting or operating a business, including a family-owned business.

(b) Transferring institutions may rely on the originator of a funds transfer with regard to compliance with paragraph (a) of this general license, provided that the transferring institution does not know or have reason to know that the funds transfer is not in compliance with paragraph (a).

(c) This general license does not authorize:

(1) Financial transfers to any blocked person described in paragraph (a) of this general license, other than for the purpose of effecting the payment of taxes, fees, or import duties, or the purchase or receipt of permits, licenses, or public utility services; or

(2) Any transactions otherwise prohibited by the GTSR or the FTOSR, unless separately authorized.

(d) Effective March 5, 2025, General License No. 24, dated January 17, 2024, is replaced and superseded in its entirety by this General License No. 24A.

Lisa M. Palluconi,

Acting Director, Office of Foreign Assets Control.

Dated: March 5, 2025.

OFFICE OF FOREIGN ASSETS CONTROL

Global Terrorism Sanctions Regulations

31 CFR Part 594

Foreign Terrorist Organizations Sanctions Regulations

31 CFR Part 597

GENERAL LICENSE NO. 25A

Authorizing the Offloading of Refined Petroleum Products in Yemen Involving Ansarallah

(a) Except as provided in paragraph (b) of this general license, all transactions prohibited by the Global Terrorism Sanctions Regulations, 31 CFR part 594 (GTSR), or the Foreign Terrorist Organizations Sanctions Regulations, 31 CFR part 597 (FTOSR), involving Ansarallah, or any entity in which Ansarallah owns, directly or indirectly, a 50 percent or greater interest, that are ordinarily incident and necessary to the delivery and offloading of refined petroleum products for personal, commercial, or humanitarian use in Yemen are authorized, through 12:01 a.m. eastern daylight time, April 4, 2025, provided the refined petroleum products were loaded on a vessel prior to March 5, 2025.

(b) This general license does not authorize:

(1) Any commercial resale, transfer, exportation, or reexporation of refined petroleum products from Yemen;

(2) Financial transfers to any blocked person described in paragraph (a), other than for the purpose of effecting the payment of taxes, fees, or import duties, or the purchase or receipt of permits, licenses, or public utility services; or

(3) Any transactions otherwise prohibited by the GTSR or the FTOSR, including transactions involving any person blocked pursuant to the GTSR or the FTOSR other than the blocked persons described in paragraph (a) of this general license, unless separately authorized.

(c) Effective March 5, 2025, General License No. 25, dated January 17, 2024, is replaced and superseded in its entirety by this General License No. 25A.

Lisa M. Palluconi,

Acting Director, Office of Foreign Assets Control.

Dated: March 5, 2025.

OFFICE OF FOREIGN ASSETS CONTROL

Global Terrorism Sanctions Regulations

31 CFR Part 594

Foreign Terrorist Organizations Sanctions Regulations

31 CFR Part 597

GENERAL LICENSE NO. 26A

Authorizing Certain Transactions Necessary to Port and Airport Operations Involving Ansarallah

(a) Except as provided in paragraph (b) of this general license, all transactions prohibited by the Global Terrorism Sanctions Regulations, 31 CFR part 594 (GTSR), or the Foreign Terrorist Organizations Sanctions Regulations, 31 CFR part 597 (FTOSR), involving Ansarallah, or any entity in which Ansarallah owns, directly or indirectly, a 50 percent or greater interest, that are ordinarily incident and necessary to the operation of, or import or export of goods or transit of passengers through, ports and airports in Yemen are authorized.

(b) This general license does not authorize:

(1) Financial transfers to any blocked person described in paragraph (a), other than for the purpose of effecting the payment of taxes, fees, or import duties, or the purchase or receipt of permits, licenses, or public utility services;

(2) Transactions involving imports or exports of arms or related materiel;

(3) Transactions involving imports or exports of refined petroleum products, unless separately authorized; or

(4) Any transactions otherwise prohibited by the GTSR or the FTOSR, unless separately authorized.

Note to General License No. 26A. Nothing in this general license relieves any person from compliance with any other federal laws or requirements of other federal agencies.

(c) Effective March 5, 2025, General License No. 26, dated January 17, 2024, is replaced and superseded in its entirety by this General License No. 26A.

Lisa M. Palluconi,

Acting Director, Office of Foreign Assets Control.

Dated: March 5, 2025.

OFFICE OF FOREIGN ASSETS CONTROL

Global Terrorism Sanctions Regulations

31 CFR Part 594

Foreign Terrorist Organizations Sanctions Regulations

31 CFR Part 597

GENERAL LICENSE NO. 28A

Authorizing Transactions for Third-Country Diplomatic and Consular Missions Involving Ansarallah

(a) Except as provided in paragraph (b) of this general license, all transactions prohibited by the Global Terrorism Sanctions Regulations, 31 CFR part 594 (GTSR), or the Foreign Terrorist Organizations Sanctions Regulations, 31 CFR part 597 (FTOSR), involving Ansarallah, or any entity in which Ansarallah owns, directly or indirectly, a 50 percent or greater interest, that are ordinarily incident and necessary to the official business of third-country diplomatic or consular missions to Yemen are authorized.

(b) This general license does not authorize:

(1) Financial transfers to any blocked person described in paragraph (a) of this general license, other than for the purpose of effecting the payment of taxes, fees, or import duties, or the purchase or receipt of permits, licenses, or public utility services; or

(2) Any transactions otherwise prohibited by the GTSR or the FTOSR, including transactions involving any person blocked pursuant to the GTSR or the FTOSR other than the blocked persons described in paragraph (a) of this general license, unless separately authorized.

(c) Effective March 5, 2025, General License No. 28, dated February 16, 2024, is replaced and superseded in its entirety by this General License No. 28A.

Lisa M. Palluconi,

Acting Director, Office of Foreign Assets Control.

Dated: March 5, 2025.
Lisa M. Palluconi,
Acting Director, Office of Foreign Assets Control.

[FR Doc. 2025-12760 Filed 7-8-25; 8:45 am]

BILLING CODE 4810-AL-P